DEPARTMENT OF DEFENSE

Department of the Navy

Notice of Availability of Government-Owned Inventions; Available for Licensing

AGENCY: Department of the Navy; DoD.

ACTION: Notice.

SUMMARY: The inventions listed below are assigned to the United States Government as represented by the Secretary of the Navy and are available for domestic and foreign licensing by the Department of the Navy.

The following patents are available for licensing: U.S. Patent No. 9,180,933: INTEGRATED STERN BULB AND FLAP//U.S. Patent No. 9,228,805: CORRUGATED BLAST FREQUENCY CONTROL PANEL AND METHOD//U.S. Patent No. 9,230,717: UNIVERSAL CABLE JACKET REMOVAL TOOL//U.S. Patent No. 9,238,501: BILGE KEEL WITH POROUS LEADING EDGE//U.S. Patent No. 9,306,360: TORSION ELIMINATING COMPRESSION DEVICE AND METHOD//U.S. Patent No. 9,307,156: LONGWAVE INFRARED IMAGING OF A HIGH TEMPERATURE HIGH INTENSITY LIGHT SOURCE//U.S. Patent No. 9,340,284: CARGO SUSPENSION FRAME FOR AIRCRAFT//U.S. Patent No. 9,365,262: WIGGLE HULL DESIGN HAVING A CONCAVE AND CONVEX PLANING HULL//U.S. Patent No. 9,376,171: MOORING CLEAT WITH OPEN DESIGN FOR NON THREAD ENTRY//U.S. Patent No. 9,376,175: WATER VESSEL WITH INTEGRATED BUOYANCY BULB AND STERN RAMP//U.S. Patent No. 9,381,979: PORTABLE LIGHTWEIGHT APPARATUS AND METHOD FOR TRANSFERRING HEAVY LOADS//U.S. Patent No. 9,417,155: CALCAREOUS DEPOSIT WIPE TEST APPARATUS AND METHOD//U.S. Patent No. 9,421,618: CLAMPING DEVICE FOR SECURING CABLES TO SUBMERGED FERROUS HULL SURFACE.//

ADDRESSES: Requests for copies of the patents cited should be directed to Office of Counsel, Naval Surface Warfare Center Carderock Division, 9500 MacArthur Blvd., West Bethesda, MD 20817-5700.

FOR FURTHER INFORMATION CONTACT: Dr. Joseph Teter, Director, Technology Transfer Office, Naval Surface Warfare Center Carderock Division, Code 0120, 9500 MacArthur Blvd., West Bethesda, MD 20817-5700, telephone 301-227-4299.

Authority: 35 U.S.C. 207, 37 CFR part 404.

Dated: June 14, 2017.
B.D. Corcoran
Lieutenant, Judge Advocate General's Corps, U.S. Navy, Alternate Federal Register Liaison Officer.

[FR Doc. 2017-12833 Filed 6-19-17; 8:45 am]

BILLING CODE 3810-FF-P